DEPARTMENT OF STATE

[Public Notice: 12713]

Updating Cuba Prohibited Accommodations List

SUMMARY: The Department of State is adding 11 properties to its Cuba Prohibited Accommodations List (CPA List). The Cuban Assets Control Regulations generally prohibit persons subject to U.S. jurisdiction from lodging, paying for lodging, or making any reservation for, or on behalf of, a third party to lodge at any property in Cuba on the CPA List.

DATES: Effective July 14, 2025.

FOR FURTHER INFORMATION CONTACT: Robert Haas, Office of the Coordinator for Cuban Affairs, tel.: 771-204-7384, WHA-CCAEconomicUnit@state.gov, Department of State, Washington, DC 20520.

SUPPLEMENTARY INFORMATION:

Background

On September 24, 2020, the Department of the Treasury amended its Cuba sanctions with a regulatory amendment to the CACR, adding § 515.10 to generally prohibit persons subject to U.S. jurisdiction from lodging, paying for lodging, or making any reservation for, or on behalf of, a third party to lodge at any property in Cuba on the CPA List. The State Department, on behalf of the Secretary of State, is now updating the CPA List, as published below and available on the State Department's website: https://www.state.gov/cuba-sanctions/cuba-prohibited-accommodations-list/.

This update includes eleven additional accommodations, one address correction, four name refinements, and one merging of duplicative entries. The State Department continues to update the Cuba Prohibited Accommodations List periodically.

Electronic Availability

This document and additional information concerning the CPA List are available from the Department of State's website: (https://www.state.gov/cuba-sanctions/cuba-prohibited-accommodations-list/).

Cuba Prohibited Accommodations List as of July 14, 2025

Below is the U.S. Department of State's Cuba Prohibited Accommodations List, a list of properties in Cuba at which the Cuban Assets Control Regulations generally prohibit persons subject to U.S. jurisdiction from lodging, paying for lodging, or making any reservation for, or on behalf of, a third party to lodge. The properties are owned or controlled by the Cuban government, a prohibited official of the Government of Cuba, as defined in 31 CFR 515.337, a prohibited member of the Cuban Communist Party, as defined in 31 CFR 515.338, a close relative, as defined in 31 CFR 515.339, of a prohibited official of the Government of Cuba, or a close relative of a prohibited member of the Cuban Communist Party. For information regarding the restrictions on transactions with these properties, please see 31 CFR 515.210. All properties were listed effective September 28, 2020, unless otherwise indicated.

* Property is marketed as a “casa” but is owned or controlled by the Cuban government and is not an independent “casa particular.”

^ Property is a “casa particular” but it nonetheless meets the criteria for inclusion on the Cuba Prohibited Accommodations List.

Pinar del Río

Central Viñales, Salvador Cisnero Street Esq. Ceferino Fernández, Vinales, Cuba 22 400

Hotel Cayo Levisa, Carretera a Palma Rubia, Cayo Levisa, Cuba 84 310

Hotel Moka, Autopista Habana-Pinar del Río, Km 52½, Las Terrazas, Pinar del Rio, Cuba 24 700

Hotel Pinar del Río, A4 (Marti y Final Autopista) Pinar del Rio, Cuba 20 100

Hotel Villa Cabo de San Antonio, Playa Las Tumbas, Cabo de San Antonio, Pinar del Río, Pinar del Rio, Cuba 24 150

Hotel Villa María La Gorda y Centro Internacional de Buceo, Península de Guanahacabibes, Pinar del Rio, Cuba 24 150

Hotel Vueltabajo, Calle Marti 103, esq. a Rafael Morales, Pinar del Rio, Cuba 20 100

La Ermita (aka: Horizontes La Ermita), Carretera de La Ermita, km 1. 5, Vinales, Cuba 22 400

Los Jazmines (aka: Horizontes Los Jazmines), Carretera a Viñales, Km. 23, Viñales, Pinar del Río, Cuba 22 400

Mirador de San Diego, Calle 23 final San Diego de los Baños, Los Palacios, Cuba 22 900

Villa Rancho San Vicente (aka: Horizontes Rancho San Vicente), Valle de San Vicente Carretera a Puerto Esperanza Km 33, Vinales, Cuba 22 400

Artemisa

Castillo en las Nubes, Km 8 Carretera, Soroa, Artemisa, Cuba 22 700

Hotel Las Yagrumas, Calle 40 y Final Autopista, San Antonio de los Banos, Artemisa, Cuba 32 500

Villa Soroa (aka: Horizontes Villa Soroa), Carretera A Soroa Km 8 Candelaria, Soroa, Artemisa, Cuba 22 700

Havana

Aparthotel Terrazas Atlántico, Ave. Las Terrazas e/10 y Rotonda, Santa María del Mar, La Habana del Este, Habana, Cuba 10 900

Be Live Havana City Copacabana, Ave. 1ra. No. 4404 e/44 y 46, Miramar, Playa, Habana, Cuba 11 300.

Bello Caribe, Calle 158 esq. a 31, Habana, Cuba 10 400

Blau Arenal Habana Beach, Laguna de Boca Ciega, Santa María del Mar, Playas del Este, Habana, Cuba 10 900

Casa 117 Mirador del Mar, Calle 12 E/1ra y 3ra Santa María, Habana, Cuba 10 400 *

Casa 140 Mirador del Mar, Calle 15 E/1RA Y 3RA Santa María, Habana del Este, Habana, Cuba 10 400 *

Casa 178 Boca Ciega, Avenida 5ta entre 1ra y 2da, Habana, Cuba 10 400 *

Casa 474 Boca Ciega, Ave 438 e/1ra y 5ta, Boca Ciega, Guanabo, Habana, Cuba 10 400 *

Casa 475 Boca Ciega, Ave 438 e/1ra y 5ta. Boca Ciega. Playa del Este, Habana, Cuba 10 400 *

Casa 489 Boca Ciega, Ave 442 e/1ra y 5ta, Boca Ciega, Guanabo, Habana, Cuba 10 400 *

Casa 500 Boca Ciega, Ave 442 e/1ra y 5ta, Boca Ciega, Guanabo, Habana del Este, Habana, Cuba 10 400 *

Casa 576 Alturas de Boca Ciega, Calle 448A/5ta y 7ma. Guanabo. Habana del Este, Habana, Cuba 10 400 *

Casa 580 Brisas del Mar, Ave 42 e/A y Avenida B, Brisas del Mar, Habana, Cuba 10 400 *

Casa 59 Mirador del Mar, Calle No 5 E/1ra y Vía Blanca, Santa María, Habana, Cuba 10 400 *

Casa 628 Brisas del Mar, Ave 42 e/A y Avenida B, Brisas del Mar, Habana, Cuba 10 400 *

Casa 712 Alturas de Boca Ciega, Calle 460 E/A 7MA Y 9NA, Habana, Cuba 10 400 *

Casa 727 Alturas de Boca Ciega, Calle 456 E/A 5TA Y 7MA, Habana, Cuba 10 400 *

Casa 760 Alturas de Boca Ciega, Calle 458A/7ma y 9na. Playas de Este, Habana, Cuba 10 400 *

Casa 799 Alturas de Boca Ciega, Calle 460 E/A 7MA Y 9NA, Habana, Cuba 10 400 *

Casa 96 Mirador del Mar, Calle No 10 E/3ra y Vía Blanca, Santa María, Habana, Cuba 10 400 *

Casa Vida Luxury Holidays, 107 Villegas la Habana Dernier Etage, Habana, Cuba 10 400 ^

Chateau Miramar, Avenida 1ra. e/60 y 70, Miramar, Playa, Habana, Cuba 11 300

Club Acuario, Calle 248 y 5ta Ave Marina Hemingway, Playa, Habana, Cuba 10 400

Comodoro, 3rd Avenue and 84th street, Habana, Cuba 21 016

El Viejo Y El Mar, Calle 248 y 5th Ave Marina Hemingway Santa Fe, Habana, Cuba 10 400

Grand Aston La Habana, Avenida Malecón entre 1era y Calle D Havana Province of Havana, La Habana, Cuba. Effective July 14, 2025.

Gran Hotel Bristol Kempinski, 485 Av. Bélgica, La Habana, Cuba

Gran Hotel Manzana Kempinski, San Rafael (entre Monserrate y, Agramonte, Habana, Cuba 10 100

H10 Habana Panorama, Avda 3 y Calle 70, Miramar, Habana, Cuba 10 400

Habana Riviera By Iberostar, Ave Paseo y Malecón, Vedado, Plaza de la Revolución, Habana, Cuba 10 400

Hostal Valencia, Calle de los Oficios No. 55 esq. a Obrapía, Old Havana, Habana, Cuba 10 400

Hostel Vedado Azul, Calle 2, e/23 y 25, Vedado, Plaza de la Revolución, Habana, Cuba 10 400

Hotel Ambos Mundos, Calle Obispo No. 153 e/Mercaderes y San Ignacio, Old Havana, Habana, Cuba 10 400

Hotel Armadores de Santander, Calle Luz 4 Esq San Pedro, Habana, Cuba 10 100

Hotel Atlántico, Ave de las Terrazas Santa Maria del Mar. Habana del Este, Habana, Cuba 10 900

Hotel Bella Habana (Aeropuerto), Calle Conill e/Marino y Boyeros, Nuevo Vedado, Plaza de la Revolución, Habana, Cuba 10 400

Hotel Beltrán de Santa Cruz, Calle San Ignacio No. 411 e/Sol y Muralla, Habana Vieja, Habana, Cuba 10 400

Hotel Bruzón, Calle Bruzón No. 217 e/Pozos Dulces y Boyero, Plaza de la Revolución, Habana, Cuba 10 400

Hotel Caribbean, Prado No. 164 e/Colón y Refugio, Habana Vieja, Habana, Cuba 10 100

Hotel Colina, Calle L e/27 y Jovellar, Vedado, Plaza de la Revolución, Habana, Cuba 10 400

Hotel Conde de Villanueva, Calle de los Mercaderes No. 202 esq. a Lamparilla, Lamparilla, La Habana, Cuba 10 400

Hotel Deauville, Calle Galiano y Malecon Old Havana, Habana, Cuba 10 400

Hotel del Tejadillo, Calle Tejadillo No.12 esq. a San Ignacio, Habana Vieja, Habana, Cuba 10 400

Hotel el Bosque, Calle 28 A entre 49A y 49C Reparto Kohly, Habana, Cuba 10 400

Hotel el Comendador, Calle Obrapia 55 Esquina Baratill, Habana, Cuba 10 400

Hotel el Mesón de la Flota, Calle Mercaderes Entre Amargura Y Teniente Rey 257, Habana, Cuba 10 400

Hotel Florida, Calle Obispo esq. a Cuba. Ciudad de La Habana, Habana, Cuba 10 100

Hotel Habana 612, 612 Calle Habana Entre Teniente Rey Y Muralla, Habana, Cuba 10 400

Hotel Inglaterra, Prado No 416 esq San Rafael, Habana Vieja, Habana, Cuba 10 100

Hotel Kohly, 49 Y 36 Reparto Kohly Playa, Habana, Cuba 10 400

Hotel Lido, Consulado No. 210 e/Animas y Trocadero, Habana Vieja, Habana, Cuba 10 100

Hotel Lincoln, Calle Virtudes No. 157 esq. a Galiano, Centro Habana, Habana, Cuba 10 200

Hotel Los Frailes, Calle Teniente Rey No. 8 e/Mercaderes y Oficios., 8 Teniente Rey, Habana, Cuba 10 400

Hotel Marqués de Cardenas de Montehermoso, Calle Oficios Entre Amargura Y Lamparilla, Habana, Cuba 10 100

Hotel Marqués de Prado Ameno, Calle O'Reilly Esq. A Cuba, Habana, Cuba 10 100

Hotel Nacional de Cuba, Calle 21 y O Vedado, Plaza, Habana, Cuba 10 400

Hotel Palacio Cueto, Calle Inquisidor No. 351-353 Esquina a Muralla Vieja Linda, Habana, Cuba 10 100

Hotel Palacio del Marqués de San Felipe y Santiago de Bejucal, Calle de los Oficios 152 esquina a Mercaderes, La Habana, Cuba 10 100

Hotel Palacio O'Farrill, Calle Cuba 102-108 entre Chacon y Tejadillo, Habana, Cuba 10 100

Hotel Panamericano, Calle A y Ave. Central, Cojímar, Habana del Este, Habana, Cuba 10 900

Hotel Park View, Calle Colon esq a Morro, Habana, Cuba 10 100

Hotel Paseo Habana, Calle 17 esq. a A, Vedado, Plaza de la Revolución, Habana 10 400

Hotel Plaza, Ingnacio Agramonte 267 Habana Vieja, Habana, Cuba 10 400

Hotel Raquel, Calle Amargura No. 103, esq. a San Ignacio, Habana Vieja, Habana, Cuba 10 400

Hotel Regis, Paseo de Martí, La Habana, Cuba 10 400

Hotel San Alejandro, Ave. 31 e/76 y 78, Marianao, Habana, Cuba 11 500

Hotel San Miguel, Calle de Cuba 2, esquina a Pena Pobre Vedado, Habana, Cuba 10 400

Hotel Santa Isabel, Calle Baratillo 9 Between Obispo And Narciso Lopez, Habana, Cuba 10 100

Hotel Saratoga, Paseo del Prado 603 esquina Dragones, La Habana Vieja, Habana, Cuba 10 200

Hotel Sevilla Affiliated by Melia, Trocadero 55 e Prado y Zulueta Habana, Habana, Cuba 19 100

Also known as: Hotel Sevilla Habana Affiliated by Meliá. Effective July 14, 2025

Hotel Telégrafo, 416 Paseo de Martí, Habana, Cuba 10 600

Hotel Terral, Avenida Malecon Esquina A Lealtad, Habana, Cuba 10 400

Hotel Tryp Habana Libre, Calle L e/23 y 25, Vedado, Plaza de la Revolución, Habana, Cuba 10 400

Hotel Tulipán, Calle Factor e/Tulipán y Lombillo, Nuevo Vedado, Plaza de la Revolución, Habana, Cuba 10 400

Hotel Vedado Saint John's, Calle O e/23 y 25, Vedado, Plaza de la Revolución, Habana, Cuba 10 400

Hotel Vedado, Calle O, entre 23 y 25 Vedado, Habana, Cuba 10 400

Iberostar Grand Packard Hotel, 51 Paseo de Martí, Habana, Cuba 10 100

Iberostar Parque Central, Calle Neptuno e/Paseo del Prado y Zulueta, Habana Vieja, Habana, Cuba 10 400

Iberostar Selection La Habana, (also “Torre K”) Calle K Entre 23 Y 25, Havana 10400 Cuba. Effective July 14, 2025

INNSiDE Habana Catedral, Empedrado 113 esq. Mercaderes, La Habana, Cuba. Effective July 14, 2025

Marazul, Ave. de las Banderas y las Terrazas, Santa María del Mar, Playas del Este, Habana, Cuba 10 900

Mariposa, Autopista Novia Del Mediodia, Habana, Cuba 10 400

Meliá Cohiba, Paseo e/1ᵃy 3ᵃ, Vedado, Plaza de la Revolución, Havana, Cuba 10 400

Meliá Habana, Ave. 3ᵃe/76 y 80, Miramar, Playa, Habana, Cuba 11 300

Memories Miramar Havana, Quinta avenida entre 72 y 76 Fraccionamiento, Miramar, La Habana, Cuba 11 300

Mirazul, 5ta Avenida Entre 36 Y 40 Miramar, Playa, La Habana, Cuba 10 400

Neptuno Tritón, 3ra Ave. Y 74 Miramar, Habana, Cuba 10 400

NH Capri, Calle 21, e/N y O, Vedado, Plaza de la Revolución, Habana, Cuba 10 400

NH Collection Victoria La Habana, Calle 19 e/calle L y M, Vedado, Plaza de la Revolución, Habana, Cuba 10 400

Roc Presidente, Calzada, No. 110 Esq. Av. de los Presidentes, Vedado, Plaza de la Revolución, Habana, Cuba 10 400

SO/Havana Paseo del Prado, Prado San Lazaro and Malecon, Habana Cuba 10 400

SO/Paseo del Prado La Habana Hotel, Ave del Prado, esq San Lazaro y Malecón, Centro Habana, Habana, Cuba 10 200

Starfish Montehabana, Av 70 entre 5ta y 7ma Av Miramar—Fraccionamiento Miramar, Habana, Cuba 11 300

Villa Bacuranao, Vía Blanca Km 15 ½, Playa Bacuranao, La Habana del Este, Habana, Cuba 10 900

Villa Eulalia, 5ta Avenida Y Calle 6 Miramar, Playa, Habana, Cuba 10 400

Villa Los Pinos, Av. De Las Terrazas Sta. Ma. del Mar, Playas del E, Habana, Cuba 10 400

Villa Siboney, Calle 11 Esquina 184, Siboney, Playa, La Habana, Cuba 10 400

Mayabeque

Villa Loma, Vía Blanca, Km 57 ½, Jibacoa, Santa Cruz del Norte, Mayabeque, Cuba 32 900

Villa Trópico, Arroyo Bermejo beach KM 60, 12345 Playa Jibacoa, Mayabeque, Cuba 32 900

Matanzas

Allegro Palma Real, 1ra Ave. y Calle 64, Varadero, Matanzas, Cuba 42 200

Aparthotel Mar del Sur, Avenida 3ra y Calle 30, Varadero, Matanzas, Cuba 42 200

Barcelo Solymar, Carretera Las Américas Km.3, Varadero, Matanzas, Cuba 42 200

Be Live Adults Only Los Cactus, Carretera Las Américas Km 3 ½ Varadero, Matanzas, Cuba 42 200

Be Live Experience Las Morlas, Ave Las Américas, Varadero, Matanzas, Cuba 42 200

Be Live Experience Tropical, Autopista Sur, Km 11 Varadero, Matanzas, Cuba 42 200

Be Live Experience Turquesa, Carretera Las Morlas KM 14 ½, Varadero, Matanzas, Cuba 42 200

Be Live Experience Varadero, Reparto La Torre Ave Las Americas, Varadero, Cuba 42 200

Blau Marina Varadero Resort (aka Fiesta Americana Punta Varadero & Fiesta Club Adults Only), Autopista Sur Final Punta Hicacos, Varadero, Cuba 42 200

Blau Varadero, Carretera de Las Morlas km.15. Varadero, Matanzas, Cuba 42 200

Brisas del Caribe, Carretera Las Morlas, Km 12 ½, Varadero, Cuba 42 200

Casa 1201 PB Acuazul, Calle 12 E/1ra y 2 Avenida, Varadero, Cuba 42 200 *

Casa 1301 Acuazul, Calle 13 e/Avenida 1ra y Avenida 2da, Varadero, Matanzas, Cuba 42 200 *

Casa 1903 Club Tropical, Calle 19 entre 2da y 3ra, Varadero, Cuba 42 200 *

Casa 2008 Club Tropical, Avenida 1ra entre 20 y 22, Varadero, Cuba 42 200 *

Casa 21 Club Karey, Carretera Kawama Final, Varadero, Cuba 42 200 *

Casa 2102 Club Tropical, Calle 21 entre 1ra y 2da, Varadero, Cuba 42 200 *

Casa 2104 Club Tropical, Avenida 1ra entre 21 y 23, Varadero, Cuba 42 200 *

Casa 2301 Club Tropical, Avenida playa 23 e/22 y 24, Varadero, Cuba 42 200 *

Casa 2303 Club Tropical, Avenida 1ra Esq. 24, Varadero, Cuba 42 200 *

Casa 2603 Club Tropical, Calle 26 e % 2da y 3ra, Varadero, Cuba 42 200 *

Casa 3204 Los Delfines, Avenida Playa y Calle 32, Varadero, Cuba 42 200 *

Casa 3241-A Acuazul, Ave. Playa e/Calle 11 y Calle 12, Varadero, Cuba 42 200 *

Casa 3241-B Acuazul, Ave. Playa e/Calle 11 y Calle 12, Varadero, Cuba 42 200 *

Casa 3242 Acuazul, Ave. Playa e/calle 11 y 12, Varadero, Matanzas, Cuba 42 200 *

Casa 3602 Los Delfines, Esquina calle 36 y Ave Playa, Varadero, Cuba 42 200 *

Casa 3604 Los Delfines, Calle 36 y Ave Playa, Varadero, Cuba 42 200 *

Casa 3606 PB Los Delfines, Calle 36 y Ave Playa, Varadero, Cuba 42 200 *

Casa 402 Acuazul, Calle 12 E/1ra y Ave. Playa, Varadero, Matanzas, Cuba 42 200 *

Casa 408 Acuazul, Calle 12 E/1ra y Ave. Playa, Varadero, Cuba 42 200 *

Casa 431 Acuazul, Calle 14 E/1ra y Ave. Playa, Varadero, Cuba 42 200 *

Casa 432 Acuazul, Calle 14 E/1ra y Ave. Playa, Varadero, Cuba 42 200 *

Casa 437 Acuazul, Calle 14 e/Avenida Playa y Avenida 1ra, Varadero, Cuba 42 200 *

Casa 439 Acuazul, Calle 14 e/Avenida Playa y Avenida 1ra, Varadero, Cuba 42 200 *

Casa 5 Club Karey, Carretera Kawama Final, Varadero, Cuba 42 200 *

Casa 5502 Pullman Dos Mares, Calle 53. 1ra ave., Varadero, Cuba 42 200 *

Casa 6 Club Karey, Carretera Kawama Final, Varadero, Cuba 42 200 *

Casa Arrechavala PB Los Delfines, Calle 33 y Ave Playa, Varadero, Cuba 42 400 *

Condominio Calle 12, Calle 12 entre 1ra Avenida y Avenida del Mar, Varadero, Cuba 42 200 *

Condominio Calle 32, Ave Playa y esquina 49, Varadero, Cuba 42 200 *

Condominio Calle 36, Calle 1ra Avenida, entre 35 y 36, Varadero, Cuba 42 200 *

Condominio Calle 40, Ave Playa y esquina 39, Varadero, Cuba 42 200 *

Condominio Calle 54, 1ra Ave. Y Calle 5, Varadero, Cuba 42 200 *

Finca Don Pedro, Carretera Playa Girón, Km 1 ½, Península de Zapata, Matanzas, Cuba 43 000

Grand Aston Varadero Beach Resort, Vía Blanca, Km 130, Varadero, Cardenas, Matanzas, Cuba 42110. Effective July 14, 2025

Grand Memories Varadero, Km 18.5 Autopista Sur Parque Natural Punta Hicacos, Varadero, Cuba 42 200

Hotel Acuazul, Ave. 1ra. y Calle 13, Varadero, Matanzas, Cuba 42 200

Hotel Canimao, Carretera Vía Blanca, Km 4½ Reparto Canímar, Matanzas, Cuba 40 100

Hotel Club Karey, Calle 0 Reparto Kawama, Varadero, Cuba 42 200

Hotel Club Tropical, Avenida 1ra E/Calle 21 Y 23, Varadero, Cuba 42 200

Hotel Kawama (aka: Club Kawama), Primera Avenida y Calle 1 Reparto Kawama, Varadero, Cuba 42 200

Hotel Los Delfines, Avenida 1ra., y Calle 39 Avenida de la Playa, Varadero, Cuba 42 200

Hotel Louvre, Calle Milanés y Parque de la Libertad, Matanzas, Cuba 40 100

Hotel Meliá Marina Varadero Apartments, Autopista Del Sur Y Final Punta Hicacos, Varadero 42200 Cuba

Hotel Oasis, Via Blanca Km 130, Varadero, Cuba 42 200

Hotel Pullman Dos Mares, Calle 53 y Ave 1ra, Varadero, Matanzas, Cuba 42 200

Hotel Puntarena—Playa Caleta, Avenida Kawama Final, Varadero, Cuba 42 200

Hotel Villa Tortuga, Calle 9 e/Boulevard y Ave. Kawama Matanza, Varadero, Cuba 42 200

Iberostar Bella Costa, Carretera Las Américas Km 3½, Varadero, Matanzas, Cuba 42 200

Iberostar Bella Vista (aka Iberostar Selection Bella Vista Varadero), Carretera Las Morlas Km 11 Sector Punta Hicacos, Varadero, Cuba 42 200

Iberostar Laguna Azul, Autopista Sur Km 17 Punta Hicacos, Varadero, Cuba 42 200

Iberostar Playa Alameda, Las Morlas, Km 19 Punta Hicacos, Varadero, Cuba 42 200

Iberostar Selection Varadero, Carretera Las Morlas Km 17,5 Sector Punta Hicacos, Varadero, Matanzas, Cuba 42 200

Iberostar Tainos, Carretera Las Morlas km 12½, Península Hicacos, Varadero, Matanzas, Cuba 42 200

Meliá Internacional Varadero, Avenida Las Américas, Km 1, Varadero, Matanzas, Cuba 42 200

Meliá Las Américas, Carretera de Las Morlas, Varadero, Matanzas, Cuba 42 200

Meliá Las Antillas, Autopista Sur, Carretera Las Morlas, Km 14, Varadero, Cuba 42 200

Meliá Marina Varadero, Autopista Del Sur Y Final Punta Hicacos, Varadero, Cuba 42 200

Meliá Peninsula Varadero, Parque Natural de Punta Hicacos, Varadero, Cuba 42 200

Meliá Varadero, Autopista Sur Km 9, Varadero, Matanzas, Cuba 42 200

Memories Jibacoa, Playa Arroyo Bermejo Via Blanca, Km 60, Santa Cruz del Norte, Mayabeque, Cuba 32 900

Memories Varadero Beach Resort, Autopista Sur, Km 18.5, Parque Natural Punta Hicacos, Varadero, Cuba 42 200

Memories Varadero, Autopista Sur Km 18,5 Parque Natural Punta Hicacos, Varadero, Cuba 42 200

Muthu Playa Varadero, Carretera Las Morlas Km 12½, Varadero, Matanzas, Cuba 42 200

Naviti Varadero, Autopista Sur Km 11 Varadero, Cuba 42 200

Occidental Arenas Blancas, Calle 64 Final, Varadero, Matanzas, Cuba 42 200

Ocean Varadero El Patriarca, Autopista Sur Km 18 Punta Hicacos, Varadero, Cuba 42 200

Ocean Vista Azul, Autopista Sur Km 11, Varadero, Cuba 42 200

Paradisus Princesa del Mar, Auropista Sur, Ctra. Las Morlas, KM 19½, Varadero, Cuba 42 200

Paradisus Varadero, Punta Frances, Varadero, Cuba 42 200

Playa Girón, Localidad Playa Girón, Municipio Ciénaga de Zapata, Cuba 43 000

Playa Larga (aka: Horizontes Playa Larga), Barrio Playa Larga, Km 32, Playa Larga, Cuba 43 000

Playa Vista Azul, Autopista Sur, Km. 11, Varadero, Matanzas, Cuba 42 200

Roc Arenas Doradas, Autopista Varadero, Km 17 Playa de los Tainos, Varadero, Cuba 42 200

Roc Barlovento, Ave 1ra e/9 y 12, Varadero, Matanzas, Cuba 42 200

Royal Service at Paradisus Varadero, Autopista Sur, Playa Francés, Varadero, Matanzas, Cuba 42 200

Royalton Hicacos Resort and Spa, Autopista Sur, Km 15, Varadero, Matanzas, Cuba 42 200

Sanctuary at Grand Memories Varadero, Autopista Sur, Km 18½, Varadero, Cuba 42 200

Sol Palmeras, Carretera Las Morlas, Varadero, Matanzas, Cuba 42 200

Sol Sirenas Coral, Las Americas Ave K Street, Varadero, Cuba 42 200

Sol Varadero Beach, Calle K and Avenida Las Americas, Varadero, Matanzas, Varadero, Cuba 42 200

Starfish Cuatro Palmas, Ave 1ra. e/60 y 64, Varadero, Matanzas, Cuba 42 200

Starfish Las Palmas—Ages 16+ (or: Adults Only), Ave 1ra. e/60 y 64, Varadero, Matanzas, Cuba 42 200

Starfish Varadero, Carretera Las Morlas km 14, Varadero, Matanzas, Cuba 42 200

Sun Beach, Calle 17 Entre 1Era y 3Era, Varadero, Cuba 42 200

The Reserve at Paradisus Varadero, Autopista Sur, Punta Francés, Varadero, Matanzas, Cuba 42 200

Tuxpan, Avenida Las Américas, Km 2, Varadero, Matanzas, Cuba 42 200

Valentín El Patriarca Varadero, Autopista Sur, Km 18½, Parque Natural Punta Hicacos, Varadero, Matanzas, Cuba 42 200

Varadero Sol Caribe, Avda. Las Américas y Calle K, Varadero. Effective July 14, 2025

Velasco, Calle Contreras e/Santa Teresa y Ayuntamiento. Matanzas, Cuba 40 100

Villa Guamá (aka: Horizontes Villa Guamá), Carretera Playa Larga, Km 19, Laguna del Tesoro, Península de Zapata, Matanzas, Cuba 43 000

Villa Punta Blanca (or: Hotel Punta Blanca), Carretera de Kawama final s/n, Varadero, Matanzas, Cuba 42 200

Cienfuegos

Hotel Faro Luna, Carretera a Pasacaballo Km 17½, Cienfuegos, Cuba 55 100

Hotel Pasacaballos, Carretera de Rancho Luna km 23, Cienfuegos, Cuba 55 100

Hotel Punta La Cueva (or: Punta Las Cuevas), Carretera a Rancho Luna km. 3½ y Circunvalación, Cienfuegos, Cuba 55 100

Hotel Rancho Luna, Carretera Pasacaballo Km 17½, Cienfuegos, Cuba 55 100

Jagua Managed By Meliá Hotels International, Calle 37 e/0 and 2, Punta Gorda, Cienfuegos, Cuba 55 100

La Unión Managed By Meliá Hotels International, Calle 31 esq. a 54, Cienfuegos, Cuba 55 100

Meliá San Carlos, Calle San Carlos Entre Gacel y Horrutinier, Cienfuegos, Cuba 55 100

Villa Yaguanabo, Carretera a Trinidad Km 55, Cienfuegos, Cuba 55 100

Villa Clara

Angsana Cayo Santa María, Cayo Las Brujas, Cayeria del Norte, Villa Clara, Caibarien, Cuba 50 100

Aparthotel Azul, Carretera a Cayo Guillermo, Km 1.5, Cayo Coco, Cuba 69 400

Be Live Collection Cayo Santa María, Cayo Santa María, Caibarién, Villa Clara, Cuba 52 610

Camino del Príncipe, Camilo Cienfuegos No.9/Montalván y Alejandro del Rio, Remedios, Villa Clara, Cuba 52 700

Casa Bausá, Camilo Cienfuegos Entre Montalván y José A. Peña, Remedios, Villa Clara 52 700 *

Central Villa Clara, Calle Parque Entre Padre Chao y Marta Abreus Reparto Pastora, Santa Clara, Villa Clara, Cuba 50 100

Coral Level At Iberostar Selection Ensenachos, Cayo Ensenachos, Caibarién, Villa Clara, Cuba 52 610

Dhawa Cayo Santa María, 50100 Cayeria Del Norte, Cayo las Brujas, Caibarién, Cuba 52 610

Golden Tulip Aguas Claras, Las Caletas Beach, Cayo Santa Maria, Caibarien, Villa Clara, Cuba 52 610

Grand Aston Cayo Las Brujas Beach Resort & Spa, Las Dunas 5, Cayo Las Brujas, Cuba 52 610

Grand Memories Santa María, Cayo Santa Maria, Caibarien, Villa Clara, Cuba 52 610

Grand Sirenis Cayo Santa María, Playa Las Salinas, Cayo Santa María, Villa Clara, Cuba 52 610

Hotel América, Mujica No. 9 Entre Colón y Maceo, Santa Clara, Villa Clara, Cuba 50 100

Hotel Barcelona, José A. Peña Eentre Máximo Gómez y Antonio Maceo, Remedios, Villa Clara, Cuba 52 700

Hotel Cayo Santa María, Cayo Las Brujas, Villa Clara, Caibarien, Cuba, 52 610

Hotel Elguea, Balneario Elguea, Corralillo, Villa Clara, Cuba 52 100

Hotel Floréale, Calle Rafael Trista, No. 4, e/Parque Vidal y Villuendas, Santa Clara, Villa Clara, Cuba 50 100

Hotel Hanabanilla, Salto de Hanabanilla, Manicaragua, Villa Clara, Cuba 53 200

Hotel Playa Cayo Santa María, Las Dunas 5, Cuba Cayo Santa María, Cuba 52 610

Hotel Playa Vista Mar, Las Brujas, Cayo Santa Maria, Villa Clara, Cuba 52 610

Hotel Real, Camilo Cienfuegos No 6/Andrés del Rio y Alejandro del Rio, Remedios, Cuba 52 700

Hotel Santa Clara Libre, Parque Leoncio Vidal No. 6 e/Tristá y Padre Chao, Santa Clara, Villa Clara, Cuba 50 100

Iberostar Ensenachos, Cayo Ensenachos, Pedraplen A Cayo Santa Maria, Cuba 52 700

Las Salinas Plana & Spa, Cayo las Brujas, Villa Clara, Cayo Las Brujas, Cuba 52 610

Leyendas, Pi y Margall esquina Antonio Maceo, Remedios, Villa Clara 52 700

Mascotte, Máximo Gómez No. 114, Remedios, Villa Clara, Cuba 52 700

Meliá Buenavista, Punta Madruguilla, Cayo Santa María, Caibarién, Villa Clara, Cuba 52 610

Meliá Cayo Santa María (AKA Sol Cayo Santa Maria), Cayo Santa María, km 40, Jardines del Rey, Caibarién, Villa Clara, Cuba 52 610

Meliá Las Dunas, Cayo Santa María, km 48, Jardines del Rey, Caibarién, Villa Clara, Cuba 52 610

Memories Paraíso, Cayo Santa María, Caibarién, Villa Clara, Cuba 52 610

Ocean Casa del Mar, Cayo Santa María, Caibarién, Cayos de Villa Clara, Cuba 52 610

Also known as: Roc Casa del Mar, Pedraplén Road, Cayo Santa María, Villa Clara. Cuba. Effective July 14, 2025

Palacio Arenas, Calle Solís esquina a Padre Varela. Sagua La Grande, Villa Clara, Cuba 53 310

Paradisus Los Cayos, Cayo Santa María, km 48, Jardines del Rey, Caibarién, Cuba 52 610

Roc Lagunas del Mar, Carretera (Pedraplén) a Cayo Santa María, Caibarién, Villa Clara, Cuba 52 610

Also known as: Lagunas del Mar. Effective July 14, 2025

Royal Service at Paradisus Los Cayos, Cayo Santa María, Km 48, Jardines del Rey, Caibarién, Villa Clara, Cuba 52 610

Royalton Cayo Santa María, Cayo Santa María, Caibarién, Jardines del Rey, Villa Clara, Cuba 52 610

Sagua, Calle Carmen Ribalta Entre Martí y Clara Barton. Sagua La Grande, Villa Clara, Cuba 53 310

Sanctuary at Grand Memories Santa María, Cayo Santa María, Caibarien, Villa Clara, Cuba 52 610

Sercotel Experience Cayo Santa María, Jardines del Rey, Cayos de Villa Clara, Cuba 50 100

Starfish Cayo Santa María, Cayo Santa María, Caibarién, Villa Clara, Cuba 56 200

Starfish Tropical, Cayo Santa Maria, Caibarien, Villa Clara, Cuba 56 200

The Reserve at Paradisus Los Cayos, Cayo Santa María, km 48, Jardines del Rey, Caibarién, Villa Clara, Cuba 52 610

Valentín Perla Blanca, Lagunas del Este, Cayo Santa María, Caibarién, Villa Clara, Cuba 52 610

Villa La Granjita (aka: Horizontes La Granjita), Carretera de Malezas, Km. 1½, Santa Clara, Cuba 50 100

Villa Las Brujas, Cayo Las Brujas, Caibarién, Villa Clara, Cuba 50 100

Villa Los Caneyes (aka: Horizontes Los Caneyes), Ave. Eucaliptos y Circunvalación, Santa Clara, Cuba 50 100

Warwick Cayo Santa María (aka Labranda Cayo Santa María Hotel), Cayo Santa María, Caibarién, Villa Clara, Cuba 56 200

Sancti Spíritus

Club Amigo Ancón, Carretera Marìa Aguilar, Península Ancòn, Trinidad, Sancti Spíritus, Cuba 62 600

Hotel Don Florencio, Calle Independencia No. 63 Sur, e/Agramonte y E.V. Muñoz, Sanctí Spíritus, Cuba 60 100

Hotel E Plaza (or: Hotel Encanto Plaza), 2 Cespedes Norte, Sancti Spíritus, Cuba 60 100

Hotel Rijo, Honorato del Castillo No. 12, Centro Histórico, Sancti Spíritus, Cuba 60 100

Hotel Zaza, Finca San José Km 5½, Lago Zaza, Sancti Spíritus, Cuba 60 100

Iberostar Heritage Grand Trinidad, Calle Jose Marti y Lino Perez, Trinidad, Sancti Spiritus, Cuba 62 600

Kurhotel Escambray, Topes de Collantes, Sierra Escambray, Trinidad, Sancti Spíritus. Cuba 64 310

La Popa, Enrique Hart Street, between Piro Guinart & Simón Bolívar Street, Trinidad, Sancti Spíritus, Cuba 62 600

Las Cuevas, Finca Santa Ana, Trinidad, Sancti Spiritus, Cuba 62 600

Los Helechos, Topes de Collantes, Trinidad, Sancti Spíritus. Cuba 62 600

Ma Dolores (aka: Horizontes Finca Ma Dolores), Carretera de Cienfuegos, Km. 1½, Trinidad, Sancti Spiritus, Cuba 62 600

Meliá Trinidad Península, Playa María Aguilar, Carr. a Ancón, Trinidad, Cuba. Effective July 14, 2025

Memories Trinidad Del Mar, Península de Ancón, Trinidad, Sancti Spíritus, Cuba 62 600

Mesón del Regidor, Calle Simón Bolívar #426 e/Real del Jigue y Gloria. C. Historico, Trinidad, Cuba 62 600

Trinidad 500, Carretera Casilda Km ½, Trinidad, Cuba 62 600

Villa Caburni, Topes de Collantes, Sierra Escambray, Trinidad, Sancti Spíritus. Cuba 62 600

Villa Los Laureles, Carretera Central Km 383, Sancti Spiritus, Cuba 60 100

Villa San José del Lago, Avenida Antonio Guiteras km 1½, Mayajigua, Yaguajay, Sancti Spíritus, Cuba 62 100

Ciego de Ávila

Cayo Guillermo Resort Kempinski, Playa Pilar, Cayo Guillermo, Ciego de Avila, Cuba 67 210

Club Cayo Guillermo, Jardines del Rey, Cayo Guillermo, Ciego de Avila, Cuba 65 200

Colonial Cayo Coco, Cayo Coco, Jardines del Rey, Ciego de Ávila, Cuba 69 400

Gran Muthu Imperial Hotel, Km 50, Carretera a Playa Pilar, Cayo Guillermo, Ciego de Avila, Cuba 65 100

Gran Muthu Rainbow Hotel, Cayo Guillermo, Jardines del Rey, Ciego de Avila, Cuba 65 100

Grand Muthu Cayo Guillermo, Cayo Guillermo, Jardines del Rey, Ciego de Avila, Cuba 65 100

Hotel Ciego de Ávila, Carretera de Ceballo, Km 2½, Ciego de Ávila, Cuba 65 100

Hotel Morón, Avenida de Tarafa, Morón, Ciego de Ávila, Cuba 67 210

Hotel Playa Coco Plus, Carretera a Cayo Guillermo, Cayo Coco, Jardines del Rey, Morón, Ciego de Ávila, Cuba 69 400

Hotel San Fernando, Avenida de Tarafa, Morón, Ciego de Ávila, Cuba 67 210

Hotel Sitio La Güira, Cayo Coco, Cuba Sitio La Guira, Ciego De Avila, Cuba 65 200

Iberostar Daiquiri, Cayo Guillermo, Jardines del Rey, Morón, Ciego de Ávila, Cuba 69 410

Iberostar Playa Pilar, Playa Pilar, Cayo Guillermo, Jardines del Rey, Morón, Ciego de Ávila, Cuba 67 210

La Casona, Cristobal Colon #41, Morón, Ciego de Ávila, Cuba 67 210

Meliá Cayo Coco, Cayo Coco, Jardines del Rey, Ciego de Ávila, Cuba 69 400

Meliá Cayo Guillermo, Cayo Guillermo, Jardines del Rey, Morón, Ciego de Ávila, Cuba 69 410

Meliá Costa Rey, Cayo Coco, Playas Las Coloradas, 67210, Cuba. Effective July 14, 2025

Meliá Jardines del Rey, Playa Flamenco, Cayo Coco, Jardines del Rey, Morón, Ciego de Ávila, Cuba 69 400

Memories Caribe, Cayo Coco, Jardines del Rey, Morón, Ciego de Ávila, Cuba 69 400

Memories Flamenco, Cayo Coco, Jardines del Rey, Ciego de Ávila, Cuba 69 400

Mojito, Ave. De los Hoteles, Cayo Coco, Ciego de Avila, Cuba 69 400

Pestana Cayo Coco (aka Hotel Playa Paraiso), Carretera Cayo Guillermo km 9½ Cayo Coco, Morón, Ciego de Ávila, Cuba 69 400

Pullman Cayo Coco, Playas Las Coloradas, Cayo Coco, Jardines del Rey, Morón, Ciego de Ávila, Cuba 69 400

Rueda, Independencia Esq. José María Agramonte, Ciego de Ávila, Cuba 65 200

Sol Cayo Coco, Cayo Coco, Jardines del Rey, Morón, Ciego de Ávila, Cuba 69 400

Sol Cayo Guillermo, Cayo Guillermo, Jardines del Rey, Morón, Ciego de Ávila, Cuba 69 400

Tryp Cayo Coco, Cayo Coco, Jardines del Rey, Morón, Ciego de Ávila, Cuba 69 410

Villa Gregorio, Cayo Guillermo, Jardines del Rey, Ciego de Avila, Cuba 65 200

Villa Punta Rasa, Cayo Guillermo, Ciego De Avila, Cuba 65 200

Camagüey

Brisas Santa Lucia, Avenida Tararaco, Santa Lucía, Nuevitas, Camagüey, Cuba 74 250

Camagüey Colón Managed By Meliá Hotels International, Republica No. 472 e/San Martín y Santa Rita, Camagüey, Cuba 70 100

Casa Santa Lucia 13, Residencial, Santa Lucía, Camagüey, Cuba 70 100 *

Casa Santa Lucia 6, Residencial, Santa Lucía, Camagüey, Cuba 70 100 *

Club Amigo Caracol, Ave. Turística, Santa Lucía, Nuevitas, Camaguey, Cuba 74 250

Club Amigo Mayanabo, Ave. Tararaco, Playa Santa Lucía, Nuevitas, Camagüey, Cuba 74 250

Coral Level at Iberostar Selection Esmeralda, Cayo Cruz, Archipielago Jardines del Rey, Camaguey, Cuba 72 200

El Colonial, Calle Ignacio Agramonte No. 406, entre República y Lope Recio, Camagüey, Cuba 70 100

El Marqués, Cisneros No. 222 e/Hermanos Agüero y Martí, Camagüey, Cuba 70 100

Gran Club Santa Lucia, Avenida Tararaco, Santa Lucía Beach, Nuevitas, Camagüey, Cuba 74 250

Gran Hotel Managed By Meliá Hotels International, Maceo No. 64 e/General Gómez e Ignacio Agramonte, Camaguey, Cuba 70 100

Hotel Camagüey, Carretera Central Este, Km 4.5, Camaguey, Cuba 70 100

Hotel Caonaba, Albaisa Esq. Martí, Nuevitas, Camagüey, Cuba 72 510

Hotel Caracol, Avenida Turística, Santa Lucía, Nuevitas, Camagüey, Cuba 74 250

Hotel Costa Blanca, Ave Maternillo, Casa 1, Residencial Santa Lucía, Nuevitas, Camagüey, Cuba 74 250

Hotel E Camino de Hierro, Calle Maceo No. 76, Plaza de la Soledad, Camagüey, Cuba 70 100

Hotel Florida, Carretera Central, Km 536, Florida, Camagüey, Cuba 72 810

Hotel Isla de Cuba, San Esteban, No. 453, esq. a Popular, Camagüey, Cuba, 70 100

Hotel La Marina Plaza & Spa, Cayo Cruz, Archipielago Jardines del Rey, Camaguey, Cuba 72 200

Hotel Plaza (also: Hotel Islazul Plaza Camaguey), Calle Van Horne No. 1 e/Republica y Avellaneda, Camaguey, Cuba 72 100

Hotel Puerto Príncipe, Avenida de los Mártires No. 60, La Vigía, Camagüey, Cuba 70 100

Hotel Tararaco, Avenida Tararaco, Playa Santa Lucía, Nuevitas, Camagüey, Cuba 74 250

La Avellaneda, Calle República No.226 e/Agramonte y Callejón del Castellano, Camagüey, Cuba 70 100

La Sevillana, Calle Cisneros, entre Hermanos Agüero y Martí, Camagüey 70 100

Mayanabo, Avenida Tararaco, Playa Santa Lucía, Nuevitas, Camagüey, Cuba 74 250

Santa Lucía, Avenida Turística, Santa Lucía, Nuevitas, Camagüey, Cuba 74 250

Santa María, Cisneros No. 211 e/Hermanos Agüero y Martí, Camagüey, Cuba 70 100

Valentin Cayo Cruz, Vial Secundario 1, Cayo Cruz, Jardines del Rey, Esmeralda, Camagüey, Cuba 72 200

Las Tunas

Covarrubias, Covarrubias Beach, Puerto Padre, Las Tunas, Cuba 77 200

Hotel Cadillac, Ángel Guardia e/Francisco Vega y Francisco Varona, Las Tunas, Cuba 75 500

Hotel Las Tunas, Ave. 2 de Diciembre e/Ave. Carlos J. Finlay y Ave. 30 de Noviembre, Las Tunas, Cuba 75 500

Granma

Hotel Guacanayabo, Avenida Camilo Cienfuegos, Manzanillo, Granma, Cuba 87 510

Hotel Niquero, Martí No. 100 esq. a Céspedes, Niquero, Granma, Cuba 87 800

Hotel Royalton, 4 Libertad, Bayamo, Granma, Cuba 85 100

Hotel Sierra Maestra, Carretera a Santiago de Cuba, Km 7 e ½, Bayamo, Cuba 85 100

Hotel Telégrafo, Calle Jose Antonio Saco, e/Marmol y GG, Bayamo, Granma, Cuba 85 100

Marea del Portillo (aka: Club Amigo Marea del Portillo), Carretera Granma Km. 12½, Marea del Portillo, Pilón, Granma, Cuba 87 900

Villa Balcón de la Sierra, Carretera Providencia Km 1, Bartolomé Masó, Granma, Cuba 85 100

Villa Bayamo, Carretera Central vía Manzanillo, Km 5½, Bayamo, Granma, Cuba 85 100

Villa Santo Domingo, Carretera La Plata Km 16, Santo Domingo, Granma, Cuba 85 100

Holguín

Atlántico—Guardalavaca, Playa Guardalavaca, Banes, Holguín, Cuba 83 300

Blau Costa Verde Beach & Resort (aka Fiesta Americana Holguín Costa Verde), Playa Pesquero, Rafael Freyre, Holguín, Cuba 83 300

Brisas Covarrubias, Playa Covarrubias, Puerto Padre, Holguín, Cuba 77 200

Brisas Guardalavaca, Calle 2, Playa Guardalavaca, Banes, Holguín, Cuba 82 300

Caballeriza, 203 Miró Street e/Luz Caballero y Aricochea, Holguín, Cuba 80 100

Club Amigo Atlantico Guardalavaca, Carretera Guardalavaca, Playa Guardalavaca, Banes, Holguín, Cuba 82 300

Coral Level At Iberostar Selection Holguín, Estero, Playa Pesquero, Rafael Freyre, Holguín, Cuba 80 100

Guardalavaca, Playa Guardalavaca, Banes, Holguín, Cuba 83 300

Hotel Holguín, Carretera Guardalavaca, Playa Yuraguanal, Rafael Freyre, Holguín, Cuba 83 300

Hotel Miraflores, Ave. Ave Calixto Garcia S/N Rpto. Miraflores, Moa, Holguín, Cuba 83 310

Hotel Pernik, Ave. Jorge Dimitrov y Plaza de la Revolución, Holguín, Cuba 80 100

Hotel Playa Costa Verde, Playa Pesquero, Carretera a Guardalavaca, Rafael Freyre, Holguín. Cuba 83 300

Hotel Playa Pesquero, Playa Pesquero, Carretera a Guardalavaca, Rafael Freyre, Holguín. Cuba 83 300.

Iberostar Selection Holguín, Estero, Playa Pesquero, Rafael Freyre, Holguín, Cuba 80 100

Memories Holguín, Playa Yuraguanal, Carretera Guardalavaca, Rafael Freyre, Holguín, Cuba 83 300

Paradisus Río de Oro Resort & Spa, Playa Esmeralda, Carretera Guardalavaca, Rafael Freyre, Holguín, Cuba 83 300

Royal Service at Paradisus Río de Oro, Playa Esmeralda, Carretera Guardalavaca, Rafael Freyre, Holguín, Cuba 82 200

Sol Rio de Luna y Mares, Playa Esmeralda, Carretera Guardalavaca, Holguín, Cuba 83 300

Sol Turquesa Beach, Carretera Yuraguanal km 2. Playa Yuraguanal, Rafael Freyre Holguín, Cuba. Effective July 14, 2025

Villa Cayo Naranjo, Bahía de Naranjo, Carretera a Guardalavaca, Rafael Freyre, Holguín. Cuba 83 300

Villa Cayo Saetia, Cayo Saetía, Bahía de Nipe, Mayarí, Holguín, Cuba 84 310

Villa Don Lino (also: Hotel Don Lino), Carretera a Playa Blanca Km 7½, Rafael Freyre, Holguín, Cuba 83 300

Villa El Bosque, Ave. Jorge Dimitrov, Esq. a 9na., Holguín, Cuba 80 100

Villa Mirador de Mayabe, Carretera de Mayabe, km 8, Holguín, Cuba 80 100

Villa Pinares de Mayari, Loma La Mensura Pinares de Mayarí, Mayarí, Holguín, Cuba 83 000

Santiago de Cuba

Brisas Los Galeones, Carretera Chivirico, Guamá, Santiago de Cuba, Cuba 92 800

Brisas Sierra Mar, Carretera Chivirico, km 60, Guamá, Santiago de Cuba, Cuba 92 800

Casa Granda, Calle Heredia # 201 esq. San Pedro, Santiago de Cuba, Cuba 90 100

Club Amigo Carisol—Los Corales (aka: Carisol—Los Corales), Carr. Baconao, Km. 51, Playa Cazonal, Santiago de Cuba, Cuba 90 100

Costa Morena, Carretera de Baconao Km 38½ Baconao Park, Sigua, Santiago de Cuba, Cuba 90 100

El Cobre, Calle Aurelio Fernández esquina Avenida Antolín Cebreco, Poblado del Cobre, Santiago de Cuba, Cuba 90 100

Hotel Balcón del Caribe, Carretera del Morro Km 7½, Santiago de Cuba, Cuba 90 100

Hotel Deportivo, Prolongación, Calle E, S/N, Reparto Terraza, Santiago de Cuba, Cuba 90 100

Hotel E Imperial, Calle Enramadas, No. 251, e/Calle General José Lacret Morlot y Félix Pena, Santiago de Cuba, Cuba 90 100

Hotel E San Felix, Calle Enramadas, Esq. San Felix, Santiago de Cuba, Cuba 90 100

Hotel Gran Piedra, Carretera de la Gran Piedra, Km 14, Santiago de Cuba, Cuba 90 100

Hotel Libertad, Calle Aguilera No. 658, e/Serafín Sánchez y Pérez Carbó, Santiago de Cuba, Cuba 90 100

Hotel Rancho Club, Carretera Central Km 4½ Altos de Quintero, Santiago de Cuba, Cuba 90 100

Hotel REX, Ave Victoriano Garzón esq a Felix Pérez Carbó, Plaza de Marte, Santiago de Cuba, Cuba 90 100

Hotel San Juan, Carretera de Siboney Km 1½, Santiago de Cuba, Cuba 90 100

Las Américas, Ave. de las Americas y General Cebreco, Santiago de Cuba, Cuba 90 100

Los Galeones, Chivirico, Guamá, Santiago de Cuba, Cuba 90 100

Los Peregrinos, Aurelio Fernandez Street y Antolin Cebreco Avenue, El Cobre, Santiago de Cuba, Cuba 90 100

Meliá Santiago de Cuba, Avenida de las Américas y Calle M, Reparto Sueño, Santiago de Cuba, Cuba 90 400

Punta Gorda, Carretera de Punta Gorda S/N. Reparto Punta Gorda 90 100

San Basilio (aka: Hotel E San Basilio), Calle San Basilio No 403 e/Calvario y Carnicería, Santiago de Cuba, Cuba 90 100

Segundo Frente, Los Pinos, Poblado de Mayarí Arriba, Segundo Frente, Santiago de Cuba, Cuba 90 100

Sierra Mar, Carretera Chivirico, Km. 60, Guamá, Santiago de Cuba, Cuba 90 100

Versalles, Alturas Versalles, Km 1½ Santiago de Cuba, Cuba 90 100

Villa Gaviota Santiago, 502 Ave. Manduley, Santiago de Cuba, Cuba 90 100

Guantánamo

Hostal 1511, Ciro Frias Entre Maceo y Ruber Lopez 26, Baracoa, Cuba 97 310

Hostal La Habanera, Calle Maceo esq. a Frank Pais, Baracoa, Cuba 97 310

Hostal La Rusa, Maximo Gomez 161, Baracoa, Cuba 97 310

Hostal Rio Miel, Ave. Malecon esq. Ciro Frias, Baracoa, Cuba 97 310

Hotel Baracoa, 24 de Febrero esquina Ave. Malecón Baracoa, Guantanamo, Cuba 97 310

Hotel Caimanera, Loma Norte, Caimanera, Guantánamo, Cuba 97 800

Hotel El Castillo, Calixto Garcia St., Baracoa, Cuba 97 310

Hotel Faro de Maisí, La Asuncion, Maisí, Guantánamo, Cuba 99 320

Hotel Guantánamo, Calle 13 Norte Guantánamo, Cuba 95 100

Hotel Martí, Calixto Garcia Esquina Aguilera, Guantanamo, Cuba 95 100

Hotel Porto Santo, Carretera del Aeropuerto, Baracoa, Cuba 97 310

Villa La Lupe, Carretera El Salvador, Km 3. 5, Guantanamo, Cuba 95 100

Villa Maguana, Carretera a Moa, Baracoa, Cuba 97 310

Villa Punta de Maisí, Punta de Maisí, Guantánamo, Cuba 95 100

Isla de la Juventud

Bella Isla Resort, Cayo Largo del Sur, Archipiélago de los Canarreos, Isla de la Juventud, Cuba 69 400

Bellarena, Cayo Largo del Sur, Archipiélago de los Canarreos, Isla de la Juventud, Cuba 69 400

Hotel Colony, Carretera Siguanea Km 42, Nueva Gerona, Cuba 25 100

Hotel Pelicano, Cayo Largo del Sur, Archipiélago de los Canarreos, Isla de la Juventud, Cuba 69 400

Rancho El Tesoro, Carretara Autopista km 2½, Nueva Gerona, Cuba 25100

Sol Cayo Largo, Cayo Largo del Sur, Archipiélago de los Canarreos, Isla de la Juventud, Cuba 27 900

Villa Iguana, Cayo Largo del Sur, Archipiélago de los Canarreos, Isla de la Juventud, Cuba 69 400

Villa Isla de la Juventud, Carretera La Fe Km 1½, Nueva Gerona, Isla de la Juventud, Cuba 25 100

Michael G. Kozak,
Senior Bureau Official, Bureau of Western Hemisphere Affairs, Department of State.

[FR Doc. 2025-13148 Filed 7-11-25; 8:45 am]

BILLING CODE 4710-29-P